DEPARTMENT OF THE INTERIOR

Bureau of Land Management

[A2407-014-004-065516, #O2509-014-004-125222]

Filing of Survey Plats: Alaska

AGENCY: Bureau of Land Management, Interior.

ACTION: Notice of official filing.

SUMMARY: The plats of survey of lands described in this notice are scheduled to be officially filed in the Bureau of Land Management (BLM), Alaska State Office, Anchorage, Alaska. The surveys, which were executed at the request of the Bureau of Indian Affairs (BIA) and the BLM are necessary for the management of these lands.

DATES: The BLM must receive protests by February 19, 2026.

ADDRESSES: You may buy a copy of the plats from the BLM Alaska Public Information Center, 222 West 7th Avenue, Mailstop 13, Anchorage, AK 99513. Please use this address when filing written protests. You may also view the plats at the BLM Alaska Public Information Center, Fitzgerald Federal Building, 222 West 7th Avenue, Anchorage, Alaska, at no cost.

FOR FURTHER INFORMATION CONTACT: Nathan C. Erickson, Acting Chief, Branch of Cadastral Survey, Alaska State Office, Bureau of Land Management, 222 West 7th Avenue, Anchorage, AK 99513; telephone 907-271-5770; email n05erick@blm.gov. Individuals in the United States who are deaf, blind, hard of hearing, or have a speech disability may dial 711 (TTY, TDD, or TeleBraille) to access telecommunications relay services. Individuals outside the United States should use the relay services offered within their country to make international calls to the point-of-contact in the United States.

SUPPLEMENTARY INFORMATION: The lands surveyed are:

Copper River Meridian, Alaska

U.S. Survey No. 3426, supplemental plat accepted July 22, 2025, situated in T. 28 S., R. 54 E.

U.S. Survey No. 14666, accepted August 19, 2025, situated in T. 9 S., R. 8 W.

T. 4 S., R. 2 E., accepted August 20, 2025.

T. 8 S., R. 2 E., accepted August 18, 2025.

T. 4 S., R. 4 W., accepted August 18, 2025.

T. 7 S., R. 4 W., accepted August 20, 2025.

Kateel River Meridian, Alaska

U.S. Survey No. 14662, accepted June 4, 2025, situated in T. 19 N., R. 16 W.

U.S. Survey No. 14679, accepted August 19, 2025, situated in T. 7 S., R. 37 W.

A person or party who wishes to protest one or more plats of survey identified above must file a written notice of protest with the State Director for the BLM in Alaska. The protest may be filed by mailing to BLM State Director, Alaska State Office, Bureau of Land Management, 222 West 7th Avenue, Anchorage, AK 99513 or by delivering it in person to BLM Alaska Public Information Center, Fitzgerald Federal Building, 222 West 7th Avenue, Anchorage, Alaska. The notice of protest must identify the plat(s) of survey that the person or party wishes to protest. You must file the notice of protest before the scheduled date of official filing for the plat(s) of survey being protested. The BLM will not consider any notice of protest filed after the scheduled date of official filing. A notice of protest is considered filed on the date it is received by the State Director for the BLM in Alaska during regular business hours; if received after regular business hours, a notice of protest will be considered filed the next business day. A written statement of reasons in support of a protest, if not filed with the notice of protest, must be filed with the State Director for the BLM in Alaska within 30 calendar days after the notice of protest is filed.

If a notice of protest against a plat of survey is received prior to the scheduled date of official filing, the official filing of the plat of survey identified in the notice of protest will be stayed pending consideration of the protest. A plat of survey will not be officially filed until the dismissal or resolution of all protests of the plat.

Before including your address, phone number, email address, or other personally identifiable information in a notice of protest or statement of reasons, you should be aware that the documents you submit, including your personally identifiable information, may be made publicly available in their entirety at any time. While you can ask the BLM to withhold your personally identifiable information from public review, we cannot guarantee that we will be able to do so.

(Authority: 43 U.S.C. chap. 3.)

Nathan C. Erickson,
Acting Chief Cadastral Surveyor, Alaska.

[FR Doc. 2026-00935 Filed 1-16-26; 8:45 am]

BILLING CODE 4331-10-P